DEPARTMENT OF HEALTH AND HUMAN SERVICES

Centers for Disease Control and Prevention

[30Day-17-16AWJ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Behavioral Risk Factor Surveillance System (BRFSS) Asthma Call-back Survey (ACBS)—Existing Collection in Use without an OMB Control Number—National Center for Environmental Health NCEH), Centers for Disease Control and Prevention (CDC).

Background and Brief Description

The Centers for Disease Control and Prevention (CDC) is requesting a three-year Paperwork Reduction Act (PRA) clearance to conduct information collection under “The Behavioral Risk Factor Surveillance System (BRFSS) Asthma Call-back Survey (ACBS)” for three years beginning with the 2017 data collection cycle. The ACBS is an existing collection in use without an OMB Control Number. BRFSS (OMB Control No. 0920-1061, expiration date 3/31/2018) is a nationwide system of customized, cross-sectional telephone health surveys sponsored by CDC's National Center for Chronic Disease Prevention and Health Promotion (NCCDPHP) Division of Population Health. The BRFSS information collection is conducted in a continuous, three-part telephone interview process: Screening, participation in a common BRFSS core survey, and participation in optional question modules that states use to customize survey content.

The ACBS is not an optional state module, but rather, is a follow-up survey to the regular BRFSS efforts. It is funded by the National Asthma Control Program (NACP) in the Air Pollution and Respiratory Health Branch (APRHB) of the National Center for Environmental Health (NCEH). The ACBS is administered by NCCDPHP on behalf of NCEH using its existing BRFSS sampling frame. BRFSS coordinators in the health departments in U.S. states, territories, and the District of Columbia (collectively referred to as states) are responsible for survey administration. Currently CDC provides its 40 participating states with technical and methodological assistance.

The purpose of ACBS is to gather state-level asthma data and to make them available to track the burden of the disease, to monitor adherence to asthma guidelines, and to direct and evaluate interventions undertaken by asthma control programs located in state health departments. Beyond asthma prevalence estimates, for most states, the ACBS provides the only sources of adult and child asthma data on the state and local level.

As a follow-up, the ACBS is conducted within two weeks after the BRFSS survey. Data collection for ACBS involves (1) screening, (2) obtaining permission, (3) consenting and telephone interviewing on a subset of the BRFSS respondents from participating states. The ACBS eligible respondents are BRFSS adults, 18 years and older, who report ever being diagnosed with asthma. In addition, some states include children, below 18 years of age, who are randomly selected subjects in the BRFSS household. Parents or guardians serve as ACBS proxy respondents for their children ever diagnosed with asthma. If both the BRFSS adult respondent and the selected child in the household have asthma, then only one or the other is eligible for the ACBS.

The ACBS adds considerable state-level depth to the existing body of asthma data. It addresses critical questions surrounding the health and experiences of persons with asthma. Health data include symptoms, environmental factors, and medication use among persons with asthma. Data on their experiences include activity limitation, health system use, and self-management education. These asthma data are needed to direct and evaluate interventions undertaken by asthma control programs located in state health departments. Federal agencies and other entities also rely on this critical information for planning and evaluating efforts and to reduce the burden from this disease.

The CDC makes annual ACBS datasets available for public use and provides guidance on statistically appropriate uses of the data. Participation in the ACBS is voluntary and there are no costs to respondents other than their time. The burden table reflects the landline and cell phone data collection methods used in 2013 and later years. Additionally, the burden table accounts for reporting burden incurred by the states for the monthly or quarterly data submission to CDC. The burden hour estimates represent the 2013 data collection which is the most recent data released.

The total estimated annualized burden hours for all respondents are 6,029 hours.

Estimated Annualized Burden Hours
Type of respondents | Form name | Number of respondents | Number of responses per respondent | Average burden per response (in hrs.)
BRFSS Adults | ACBS Landline Screener—Adult | 21,424 | 1 | 1/60
| ACBS Cell Phone Screener—Adult | 8,976 | 1 | 1/60
BRFSS Parents or Guardians of Children | ACBS Landline Screener—Child | 4,245 | 1 | 1/60
| ACBS Cell Phone Screener—Child | 2,238 | 1 | 1/60
ACBS Adults | ACBS Adult Consent and Survey—2013 | 19,954 | 1 | 10/60
ACBS Parents or Guardians of Children | ACBS Child Consent and Survey—2013 | 3,887 | 1 | 10/60
State BRFSS Coordinators | ACBS Data Submission Layout | 40 | 12 | 3

Leroy A. Richardson,
Chief, Information Collection Review Office, Office of Scientific Integrity, Office of the Associate Director for Science, Office of the Director, Centers for Disease Control and Prevention.

[FR Doc. 2016-29730 Filed 12-9-16; 8:45 am]

BILLING CODE 4163-18-P